DEPARTMENT OF TRANSPORTATION

Federal Motor Carrier Safety Administration

[Docket No. FMCSA-2019-0023]

Agency Information Collection Activities; Renewal and Revision of an Approved Information Collection: Hours of Service (HOS) of Drivers Regulations

AGENCY: FMCSA, DOT.

ACTION: Notice and request for comments.

SUMMARY: In accordance with the Paperwork Reduction Act of 1995, FMCSA announces its plan to submit the Information Collection Request (ICR) described below to the Office of Management and Budget (OMB) for its review and approval and invites public comment. The FMCSA requests approval to renew an ICR titled, “Hours of Service (HOS) of Drivers Regulations.” With some exceptions, the HOS regulations require a motor carrier to install and require each of its drivers subject to the record of duty status (RODS) rule to use an electronic logging device (ELD) to report the driver's RODS. The RODS is critical to FMCSA's safety mission because it helps enforcement officials determine if CMV drivers are complying with the HOS rules limiting driver on-duty and driving time and requiring periodic off-duty time.

DATES: Please send your comments by July 19, 2019. OMB must receive your comments by this date in order to act on the ICR.

ADDRESSES: All comments should reference Federal Docket Management System Docket Number FMCSA-2019-0023. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, faxed to (202) 395-6974, or mailed to the Office of Information and Regulatory Affairs, Office of Management and Budget, Docket Library, Room 10102, 725 17th Street NW, Washington, DC 20503.

FOR FURTHER INFORMATION CONTACT: Ms. Pearlie Robinson, FMCSA Driver and Carrier Operations Division Department of Transportation, FMCSA, West Building 6th Floor, 1200 New Jersey Avenue SE, Washington, DC 20590. Telephone: 202-366-4325. Email: MCPSD@dot.gov.

SUPPLEMENTARY INFORMATION:

Title: Hours of Service (HOS) of Drivers Regulations.

OMB Control Number: 2126-0001.

Type of Request: Renewal and revision of an information collection.

Respondents: Motor Carriers of Property and Passengers, Drivers of CMVs.

Estimated Number of Respondents: 3.42 million CMV drivers; 540,000 Motor Carriers.

Estimated Time per Response: CMV drivers using technology: 2 minutes.

Estimated Time per Response: Motor Carriers reviewing 50 percent of RODS: 2 minutes.

Frequency of Response: Drivers: 240 days per year; Motor carriers 240 days per year.

Driver Burden Hours: 27.36 million = 3.42 million RODS × 2 minutes/60 × 240 days.

Motor Carrier Burden Hours: 13.68 million = 27.36 million × 50%.

Estimated Total Annual Burden: 41.04 million hours. = 27.36 million + 13.68 million.

Expiration Date: June 30, 2019.

Background

On December 16, 2015, the final rule titled “Electronic Logging Devices and Hours of Service Supporting Documents” was published and became effective February 16, 2016 (80 FR 78292). The FMCSA established minimum performance and design standards for ELDs and the mandatory use of these devices by drivers who are subject to the HOS reporting requirements. Drivers who have continuously used compliant automatic on-board recorders (AOBRDs) since December 17, 2017, have until December 16, 2019, to replace the devices with ELDs. The number of AOBRDs still in use is unknown. As a condition of receiving certain federal grants, States agree to adopt and enforce the Federal Motor Carrier Safety Regulations, including the HOS rules, as State law. As a result, State enforcement inspectors use the RODS and supporting documents to determine whether CMV drivers are complying with the HOS rules. In addition, FMCSA uses the RODS during on-site and offsite investigations of motor carriers. And Federal and State courts rely upon the RODS as evidence of driver and motor carrier violations of the HOS regulations. This information collection supports the DOT's Strategic Goal of Safety because the information helps the Agency ensure the safe operation of CMVs in interstate commerce on our Nation's highways.

Renewal of This IC

The current IC burden estimate of the HOS rules, approved by OMB on June 13, 2016, is 99.46 million hours. The expiration date of the current ICR is June 30, 2019. Through this ICR, FMCSA requests a renewal and revision of the paperwork burden of 2126-0001. The Agency requests a reduction in the burden hours from 99.46 million hours to 41.03 million hours. The reduction is the result of amendments of the HOS rules in which the burden estimate for most drivers and motor carriers is based on compliance with the ELD final rule during the three-year ICR period. Two types of information are collected under this IC: (1) Drivers' RODS (electronic records or, in some cases, paper logbooks), and (2) supporting documents, such as fuel and toll receipts, that motor carriers use to verify accuracy of RODS and for other business purposes. The use of ELDs reduces the driver's time to input duty status from 6.5 minutes to 2 minutes. Because motor carriers use supporting documents that drivers are required to maintain for other business purposes, the Agency excludes this task because it is a usual and customary activity.

On March 8, 2019, FMCSA published a Federal Register notice allowing for a 60-day comment period on this ICR. The agency received three comments in response to that notice. One commenter, Aaron Pettigrew, expressed concern that the ELDs and vendor fees for data management service vendors are burdensome to small companies. Mr. Pettigrew did not comment on the reasonableness of these estimated costs.

The Agency finds that the benefits and costs of complying with the ELD rule are outside the scope of a request for approval of this information collection request. The Agency's supporting statement includes an estimate of the cost of ELDs and data management fees used to estimate non-labor related costs of the ICR. The supporting statement included equipment costs and data management fees posted on vendors' websites.

Two commenters, Toni Smith and TruckerNation, stated that the 2-minute response time for collecting and filing records underestimates the burden hours and costs of complying with the HOS reporting and recordkeeping requirements. Mr. Smith stated that the 2-minute response time is not sufficient to account for the time to audit and file RODS and supporting documents.

TruckerNation submitted the results of a survey in which 62 percent of respondents indicated it takes more than 6.5 minutes to input daily duty status to complete electronic RODS. The Agency finds that TruckerNation did not provide a discussion of the survey methods, the margin of error, or a mean response time that is statistically significant and different from a 2-minute response time.

The Agency finds that the 2-minute response time in the supporting statement is applied to driver burden hours to monetize the cost of drivers' time on task to prepare daily RODS. It is not applicable to administrative time incurred by motor carrier staff to audit and file RODS. The Agency finds that these are usual and customary costs that motor carriers would incur in the absence of the HOS reporting and recordkeeping requirements. For example, motor carriers might collect and audit RODS and certain supporting documents for other business uses to estimate deductible expenses for income tax purposes.

Public Comments Invited: You are asked to comment on any aspect of this information collection, including: (1) Whether the proposed collection is necessary for the performance of FMCSA's functions; (2) the accuracy of the estimated burden; (3) ways for the FMCSA to enhance the quality, usefulness, and clarity of the collected information; and (4) ways that the burden could be minimized without reducing the quality of the information collected. The Agency will summarize or include your comments in the request for OMB's clearance of this ICR.

Issued under the authority delegated in 49 CFR 1.87 on: June 11, 2019.
Kenneth Riddle,
Director, Office of Registration and Safety Information.

[FR Doc. 2019-13015 Filed 6-18-19; 8:45 am]

BILLING CODE 4910-EX-P